CONSUMER PRODUCT SAFETY COMMISSION

[Docket No. CPSC-2010-0055]

Agency Information Collection Activities; Proposed Collection; Comment Request; Standard for the Flammability of Mattresses and Mattress Pads and Standard for the Flammability (Open Flame) of Mattress Sets

AGENCY: Consumer Product Safety Commission.

ACTION: Notice.

SUMMARY: As required by the Paperwork Reduction Act of 1995, the Consumer Product Safety Commission (CPSC, or Commission) requests comments on a proposed extension of approval of a collection of information from manufacturers and importers of mattresses and mattress pads. The collection of information is set forth in the Standard for the Flammability of Mattresses and Mattress Pads, 16 CFR part 1632 and the Standard for the Flammability (Open Flame) of Mattress Sets, 16 CFR part 1633. These regulations establish testing and recordkeeping requirements for manufacturers and importers subject to the standards. The Commission will consider all comments received in response to this notice, before requesting an extension of approval of this collection of information from the Office of Management and Budget (OMB).

DATES: The Office of the Secretary must receive comments not later than March 27, 2017.

ADDRESSES: You may submit comments, identified by Docket No. CPSC-2010-0055, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2010-0055, into the “Search” box, and follow the prompts.

FOR FURTHER INFORMATION CONTACT: For further information contact: Robert H. Squibb, Consumer Product Safety Commission, 4330 East-West Highway, Bethesda, MD 20814; (301) 504-7815, or by email to: rsquibb@cpsc.gov.

SUPPLEMENTARY INFORMATION:

A. Background

Approximately 358 firms produce mattresses.¹ The Standard for the Flammability of Mattresses and Mattress Pads, 16 CFR part 1632 (part 1632 standard), was promulgated under section 4 of the Flammable Fabrics Act (FFA), 15 U.S.C. 1193, to reduce unreasonable risks of burn injuries and deaths from fires associated with mattresses and mattress pads. The part 1632 standard prescribes requirements to test whether a mattress or mattress pad will resist ignition from a smoldering cigarette. The part 1632 standard also requires manufacturers to perform prototype tests of each combination of materials and construction methods used to produce mattresses or mattress pads and to obtain acceptable results from such testing. Manufacturers and importers must maintain the records and test results specified under the standard.

¹ In the previous information collection, CPSC used the census data for the North American Industry Classification System (NAICS) code to count the number of establishments that produce mattresses. However, firms may have multiple establishments associated with them. Accordingly, CPSC uses the number of firms rather than the number of establishments.

The Commission also promulgated the Standard for the Flammability (Open Flame) of Mattress Sets, 16 CFR part 1633 (part 1633 standard), under section 4 of the FFA to reduce deaths and injuries related to mattress fires, particularly those ignited by open-flame sources, such as lighters, candles, and matches. The part 1633 standard requires manufacturers to maintain certain records to document compliance with the standard, including maintaining records concerning prototype testing, pooling, and confirmation testing, and quality assurance procedures and any associated testing. The required records must be maintained for as long as mattress sets based on the prototype are in production and must be retained for 3 years thereafter. Although some larger manufacturers may produce mattresses based on more than 100 prototypes, most mattress manufacturers base their complying production on 15 to 20 prototypes. OMB previously approved the collection of information for 16 CFR parts 1632 and 1633, under control number 3041-0014, with an expiration date of April 30, 2017. The information collection requirements under the part 1632 standard do not duplicate the testing and recordkeeping requirements under the part 1633 standard.

B. Burden Hours

16 CFR 1632: Staff estimates that there are 358 respondents. It is estimated that each respondent will spend 26 hours for testing and record keeping annually for a total of 9,308 hours (358 firms × 26 hours = 9,308). The hourly compensation for the time required for record keeping is $66.19 (U.S. Bureau of Labor Statistics, “Employer Costs for Employee Compensation,” June 2016, Table 9, total compensation of all management, professional, and related occupations in goods-producing industries: http://www.bls.gov/ncs). The annualized cost to respondents would be approximately $616,097 (9,308 hours × $66.19).

16 CFR 1633: The standard requires detailed documentation of prototype identification and testing records, model and prototype specifications, inputs used, name and location of suppliers, and confirmation of test records, if establishments choose to pool a prototype. This documentation is in addition to documentation already conducted by mattress manufacturers in their efforts to meet 16 CFR part 1632. Staff estimates that there are 358 respondents. Based on staff estimates, the recordkeeping requirements are expected to require about 4 hours and 44 minutes per establishment, per qualified prototype. Although some larger manufacturers reportedly are producing mattresses based on more than 100 prototypes, most mattress manufacturers probably base their complying production on 15 to 20 prototypes, according to an industry representative contacted by staff. Assuming that establishments qualify their production with an average of 20 different qualified prototypes, recordkeeping time is about 94.6 hours (4.73 hours × 20 prototypes) per establishment, per year. (Note that pooling among establishments or using a prototype qualification for longer than 1 year will reduce this estimate). This translates to an annual recordkeeping time cost to all mattress producers of 33,867 hours (94.6 hours × 358 firms). The hourly compensation for the time required for record keeping is $66.19 (U.S. Bureau of Labor Statistics, “Employer Costs for Employee Compensation,” June 2016, Table 9, total compensation of all management, professional, and related occupations in goods-producing industries: http://www.bls.gov/ncs). The annual total estimated costs for recordkeeping are approximately $2,241,657 (33,867 hours × $66.19).

The total estimated cost to the 358 firms for the burden hours associated with both 16 CFR part 1632 and 16 CFR part 1633 is approximately $2.86 million annually.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: January 18, 2017.
Todd A. Stevenson,
Secretary, Consumer Product Safety Commission.

[FR Doc. 2017-01643 Filed 1-24-17; 8:45 am]

BILLING CODE 6355-01-P